DEPARTMENT OF COMMERCE

National Oceanic and Atmospheric Administration

50 CFR Part 660

[Docket No. 241022-0278]

RIN 0648-BO12

Magnuson-Stevens Act Provisions; Fisheries Off West Coast States; Pacific Coast Groundfish Fishery; 2025-2026 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in recreational groundfish fisheries. This action is intended to allow recreational fishing vessels to access more abundant groundfish stocks while protecting overfished and depleted stocks.

DATES: This final rule is effective December 16, 2025.

FOR FURTHER INFORMATION CONTACT: Christopher Biegel, 503-231-6291, christopher.biegel@noaa.gov.

Electronic Access

This rule is accessible via the internet at the Office of the Federal Register website at https://www.federalregister.gov. Background information and documents are available at the Pacific Fishery Management Council's website at https://www.pcouncil.org/.

SUPPLEMENTARY INFORMATION:

Background

The Pacific Coast Groundfish Fishery Management Plan (PCGFMP) and its implementing regulations at title 50 in the Code of Federal Regulations (CFR), part 660, subparts C through G, regulate fishing for over 90 species of groundfish off the coasts of Washington, Oregon, and California. The Pacific Fishery Management Council (Council) develops groundfish harvest specifications and management measures for 2-year periods (i.e., a biennium). NMFS published the final rule to implement harvest specifications and management measures for the 2025-2026 biennium for most species managed under the PCGFMP on December 16, 2024 (89 FR 101514). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its September 2025 meeting, the Council recommended an inseason action for the Pacific Coast groundfish fishery. This action involves a canary rockfish sub-bag limit for recreational fishing off the coast of California.

California Recreational Canary Rockfish Sub-Bag Limit

In June 2025, the Council's Scientific and Statistical Committee (SSC) adopted a new benchmark assessment for California quillback rockfish. At the same meeting, the Council adopted an inseason action to relax recreational fishing management measures off the coast of California that were originally implemented to reduce angler interactions with quillback rockfish. The June 2025 action included restoring recreational fishing access to all depths between the California/Oregon border and Point Conception (42° N. lat. to 37°07′ N. lat.). In summer 2025, the California Fish and Game Commission (FGC) also took emergency action to implement complementary changes within state regulations to restore recreational fishing access to all depths along that portion of the California coast. In addition, the FGC approved a recreational 2-fish sub-bag limit for the state recreational fishery canary rockfish within the state regulations.

This FGC 2-fish sub-bag limit action was effective on August 28, 2025, and only applies to state jurisdictional waters. Currently, there is no sub-bag limit for canary rockfish in federal regulations for the California recreational fishery, only the 10 fish aggregate bag limit for rockfish, cabezon, and greenlings. The previous changes to allow increased recreational fishing access to depth limits along the California coast allow increased access to the depth range where canary rockfish are commonly encountered in the recreational fishery; thus increasing the likelihood that the California share of the coastwide canary rockfish allocation would be exceeded if additional management measures to address the probability of higher canary rockfish mortality along the California coast were not addressed for the 2025-2026 biennium. Thus, in a September 2025 supplemental California Department of Fish and Wildlife (CDFW) report, CDFW recommended inseason action to implement a recreational 2-fish sub-bag limit for canary rockfish off California within federal regulations. This action is expected to keep canary rockfish mortality off California within limits and accountable to the states' sharing agreements on the percentage of catch to occur off each state, which are contained in the Pacific Coast groundfish fishery Stock Assessment and Fishery Evaluation (SAFE) document available at https://www.pcouncil.org/documents/2024/08/status-of-the-pacific-coast-groundfish-fishery-stock-assessment-and-fishery-evaluation-july-2025.pdf/. Additionally, this inseason action would establish consistency across state and federal regulations, and thus across jurisdictional boundaries, which would reduce regulatory complexity for the angling public.

The Council moved, and NMFS is implementing, a sub-bag limit for canary rockfish of 2 in the recreational fishery in federal waters off California, as recommended by CDFW.

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting Christopher Biegel in NMFS West Coast Region (see FOR FURTHER INFORMATION CONTACT section above), or view at the NMFS West Coast Groundfish website: https://www.westcoast.fisheries.noaa.gov/fisheries/groundfish/index.html.

Pursuant to 5 U.S.C. 553(b), NMFS finds good cause to waive prior public notice and an opportunity for public comment on this action, as notice and comment would be impracticable and contrary to the public interest. The adjustments to management measures in this document are designed to keep catch within allocations established by the 2025-2026 harvest specifications. No aspect of this action is controversial, and changes of this nature were anticipated in the final rule for the 2025-2026 harvest specifications and management measures, which published on December 16, 2024 (89 FR 101514).

The Council recommended, and NMFS is implementing, a sub-bag limit for canary rockfish off the coast of California of 2 fish to be consistent with the CDFW bag limit. This inseason change is in response to new information about the fishery and to conservation issues that need to be addressed for the 2025 and 2026 fishing years. Delaying implementation to allow for public comment would impact NMFS's ability to keep the fishery within catch targets set for sustainable fishing. For these same reasons, NMFS finds reason to waive the 30-day delay in effectiveness pursuant to 5 U.S.C. 553(d)(1) so that this final rule may become effective upon publication in the Federal Register. These adjustments were requested by the Council's advisory bodies, as well as members of industry during the Council's September 2025 meeting, and recommended by the Council. No aspect of this action is controversial, and changes of this nature were anticipated in the biennial harvest specifications and management measures for 2025-2026 (89 FR 101514), which were established through a notice and comment rulemaking.

List of Subjects in 50 CFR Part 660

Fisheries, Fishing, Indian Fisheries.

Dated: December 11, 2025.
Kelly Denit,
Director, Office of Sustainable Fisheries, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. In § 660.360, revise paragraph (c)(3)(ii)(B) to read as follows:

§ 660.360 Recreational fishery—management measures.

* * * * *

(c) * * *

(3) * * *

(ii) * * *

(B) Bag limits, hook limits. In times and areas when the recreational season for the RCG Complex is open, there is a limit of two hooks and one line when fishing for the RCG complex. The bag limit is 10 RCG Complex fish per day coastwide, with the following sub bag limits: 4 fish for vermilion/sunset rockfish between 42° N lat. and 40°10 N lat., 2 fish for vermilion/sunset rockfish south of 40°10 N lat., 2 fish for canary rockfish, and 1 fish for copper rockfish. These sub-bag limits count towards the bag limit for the RCG Complex and are not in addition to that limit. Retention of yelloweye rockfish, bronzespotted rockfish, quillback rockfish, and cowcod is prohibited. Multi-day limits are authorized by a valid permit issued by California and must not exceed the daily limit multiplied by the value of days in the fishing trip.

* * * * *

[FR Doc. 2025-22949 Filed 12-15-25; 8:45 am]

BILLING CODE 3510-22-P